DEPARTMENT OF THE TREASURY

Internal Revenue Service

[4830-01-P]

Appointment of Members of the Legal Division to the Performance Review Board, Internal Revenue Service

Under the authority granted to me as Acting Chief Counsel of the Internal Revenue Service by the General Counsel of the Department of the Treasury by General Counsel Directive 15, pursuant to the Civil Service Reform Act, I have appointed the following persons to the Legal Division Performance Review Board, Internal Revenue Service Panel:

1. William M. Paul, Acting Chief Counsel/Deputy Chief Counsel (Technical)

2. Mark S. Kaizen, Associate Chief Counsel (General Legal Services)

3. John P. Moriarty, Associate Chief Counsel (Income Tax & Accounting)

4. Holly Porter, Associate Chief Counsel (Passthroughs & Special Industries)

5. Kathryn A. Zuba, Associate Chief Counsel (Procedure & Administration)

Alternate: Thomas J. Travers, Associate Chief Counsel (Finance & Management)

This publication is required by 5 U.S.C. 4314(c)(4).

William M. Paul,
Chief Counsel (Acting), Internal Revenue Service.

[FR Doc. 2021-22524 Filed 10-14-21; 8:45 am]

BILLING CODE P